DEPARTMENT OF DEFENSE

Department of the Navy

32 CFR Part 706

Certifications and Exemptions Under the International Regulations for Preventing Collisions at Sea, 1972

AGENCY: Department of the Navy, DoD.

ACTION: Final rule.

SUMMARY: The Department of the Navy (DoN) is amending its certifications and exemptions under the International Regulations for Preventing Collisions at Sea, 1972 (72 COLREGS), to reflect that the Deputy Assistant Judge Advocate General (DAJAG) (Admiralty and Maritime Law) has determined that USS NORTH DAKOTA (SSN 784) is a vessel of the Navy which, due to its special construction and purpose, cannot fully comply with certain provisions of the 72 COLREGS without interfering with its special function as a naval ship. The intended effect of this rule is to warn mariners in waters where 72 COLREGS apply.

DATES: This rule is effective May 2, 2014 and is applicable beginning April 16, 2014.

FOR FURTHER INFORMATION CONTACT: Lieutenant Jocelyn Loftus-Williams, (Admiralty and Maritime Law), Office of the Judge Advocate General, Department of the Navy, 1322 Patterson Ave. SE., Suite 3000, Washington Navy Yard, DC 20374-5066, telephone 202-685-5040.

SUPPLEMENTARY INFORMATION: Pursuant to the authority granted in 33 U.S.C. 1605, the DoN amends 32 CFR Part 706.

This amendment provides notice that the DAJAG (Admiralty and Maritime Law), under authority delegated by the Secretary of the Navy, has certified that USS NORTH DAKOTA (SSN 784) is a vessel of the Navy which, due to its special construction and purpose, cannot fully comply with the following specific provisions of 72 COLREGS without interfering with its special function as a naval ship: Annex I, paragraph 2(a)(i), pertaining to the vertical placement of the masthead light; Annex I, Section 2(f)(i), pertaining to Virginia class submarine masthead light location below the submarine identification lights; Annex I, paragraph 2(k), pertaining to the vertical separation of the anchor lights and vertical placement of the forward anchor light above the hull; Rule 30 (a) and Rule 21 (e), pertaining to arc of visibility of the forward and after anchor lights; Annex I, paragraph 3(b), pertaining to the location of the sidelights; and Rule 21(c), pertaining to the location and arc of visibility of the sternlight. The DAJAG (Admiralty and Maritime Law) has also certified that the lights involved are located in closest possible compliance with the applicable 72 COLREGS requirements.

Moreover, it has been determined, in accordance with 32 CFR Parts 296 and 701, that publication of this amendment for public comment prior to adoption is impracticable, unnecessary, and contrary to public interest since it is based on technical findings that the placement of lights on this vessel in a manner differently from that prescribed herein will adversely affect the vessel's ability to perform its military functions.

List of Subjects in 32 CFR Part 706

Marine safety, Navigation (water), and Vessels.

For the reasons set forth in the preamble, the DoN amends part 706 of title 32 of the Code of Federal Regulations as follows:

PART 706—CERTIFICATIONS AND EXEMPTIONS UNDER THE INTERNATIONAL REGULATIONS FOR PREVENTING COLLISIONS AT SEA, 1972

1. The authority citation for part 706 continues to read as follows:

Authority: 33 U.S.C. 1605.

2. Section 706.2 is amended as follows:

a. In Table One by adding, in alpha numerical order, by vessel number, an entry for USS NORTH DAKOTA (SSN 784);

b. In Table Three by adding, in alpha numerical order, by vessel number, an entry for USS NORTH DAKOTA (SSN 784);

c. In Table Four, under paragraph 25, add, in alpha numerical order, by vessel number, an entry for USS NORTH DAKOTA (SSN 784); and

d. In Table Four, under paragraph 26, add, in alpha numerical order, by vessel number, an entry for USS NORTH DAKOTA (SSN 784).

§ 706.2 Certifications of the Secretary of the Navy under Executive Order 11964 and 33 U.S.C. 1605.

* * * * *

Table One
Vessel | Number | Distance in meters of forward masthead light below minimum required height § 2(a)(i) Annex I
* * * * * * *
USS NORTH DAKOTA | SSN 784 | 2.76
* * * * * * *

* * * * *

Table Three
Vessel | No. | Masthead lights arc of visibility; rule 21(a) | Side lights arc of visibility; rule 21(b) | Stern light arc of visibility; rule 21(c) | Side lights distance inboard of ship's sides in meters 3(b) annex 1 | Stern light, distance forward of stern in meters; rule 21(c) | Forward anchor light, height above hull in meters; 2(K) annex 1 | Anchor lights relation-ship of aft light to forward light in meters 2(K) annex 1
* * * * * * *
USS NORTH DAKOTA | SSN 784 |  |  | 210.0° | 4.37 | 11.05 | 2.8 | 0.30 below.
* * * * * * *

* * * * *

25. * * *

Vessel | No. | Distance in meters of masthead light below the submarine identification lights
* * * * * * *
USS NORTH DAKOTA | SSN 784 | 2.76
* * * * * * *

* * * * *

26. * * *

Vessel | No. | Obstruction angle relative to ship's heading: Forward anchor light | Obstruction angle relative to ship's heading: Aft anchor light
* * * * * * *
USS NORTH DAKOTA | SSN 784 | 172° to 188° | 359° to 1°
* * * * * * *

* * * * *

Approved: April 16, 2014.
A.B. Fischer,
Captain, JAGC, U.S. Navy, Deputy Assistant Judge Advocate, General (Admiralty and Maritime Law).
Dated: April 24, 2014.
N.A. Hagerty-Ford,
Commander, Office of the Judge Advocate General, U.S. Navy, Federal Register Liaison Officer.

[FR Doc. 2014-09939 Filed 5-1-14; 8:45 am]

BILLING CODE 3810-FF-P